FEDERAL COMMUNICATIONS COMMISSION

Public Information Collection Approved by Office of Management and Budget (OMB)

October 7, 2010.

SUMMARY: The Federal Communications Commission (FCC) has received Office of Management and Budget (OMB) approval for the following public information collection pursuant to the Paperwork Reduction Act of 1995, Public Law 104-13. An agency may not conduct or sponsor and a person is not required to respond to a collection of information unless it displays a currently valid control number.

DATES: Persons wishing to comment on this information collection should submit comments by November 15, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov, and to Nancy J. Brooks, (202) 418-2454 or via the Internet at Nancy.Brooks@fcc.gov, Federal Communications Commission (FCC). To submit your PRA comments by e-mail send them to: PRA@fcc.gov.

FOR FURTHER INFORMATION CONTACT: Nancy Brooks, (202) 418-2454or via the Internet at Nancy.Brooks@fcc.gov.

SUPPLEMENTARY INFORMATION: OMB Control No.: 3060-1139.

OMB Approval Date: 10/4/2010.

OMB Expiration Date: 4/30/2011.

Title: Residential Fixed Broadband Services Testing and Measurement.

Form No.: N/A.

Estimated Annual Burden: 11,016 responses; 14,200 total annual hours; 1 hour per response.

Obligation To Respond: Voluntary. Statutory authorities for this information collection are contained in the American Reinvestment and Recovery Act (ARRA) of 2009, Public Law 111-5 and the Broadband Data Improvement Act of 2008, Public Law 111-385.

Nature and Extent of Confidentiality: Yes. See Privacy Act Impact Assessment below.

Privacy Act Impact Assessment: Yes, however, no personally identifiable information (PII) will be transmitted to the Commission. SamKnows, Inc. maintains a series of administrative, technical and physical safeguards to protect against the transmission of personally identifying information. At point of registration, individuals will be given full disclosure, highlighting what information will be collected, and importantly, what information will not be collected.

Needs and Uses: The Commission has contracted with SamKnows, Inc. to measure the speeds and performance of a representative, cost-effective, statistically relevant sample of U.S. fixed broadband households across geographics, technologies and providers. This measurement will occur on an opt-in, voluntary basis. This representative sample will be used to create a baseline level of performance and measurements for the FCC. The third party measurement contractor will deploy testing devices to begin measurement, and these results will then be used to inform measurement standards for performance of broadband services, in support of the FCC-led National Broadband Plan.

This revised information collection responds to new requirements that were initially unforeseen in the SamKnows Residential Fixed Broadband Services Testing and Measurement program. Recent surveys demonstrate a majority of consumers are not able to accurately report the broadband service information approved in the First Collection. Furthermore in recent discussions as part of this data collection effort, broadband internet service providers (ISPs) have indicated that certain technical characteristics of consumer broadband service may vary region to region and such details may not be fully known to the consumer. Relevant ISPs have offered to partner with the FCC in the testing and measurement trial by verifying certain customer information (ISP Partners) collected by SamKnows and by providing associated data not directly obtainable from the consumer. On September 2, 2010, the Commission requested emergency approval of the information collection requirements from the Office of Management and Budget (OMB). On October 4, 2010, the Commission received OMB approval.

Federal Communications Commission.
Marlene H. Dortch,
Secretary.

[FR Doc. 2010-25925 Filed 10-14-10; 8:45 am]

BILLING CODE 6712-01-P